DEPARTMENT OF ENERGY

Federal Energy Regulatory Commission

[Docket No. EC04-650-000, et al.]

GenWest LLC, et al.; Electric Rate and Corporate Filings

February 17, 2004.

The following filings have been made with the Commission. The filings are listed in ascending order within each docket classification.

1. GenWest LLC

[Docket No. EC04-65-000]

Take notice that on February 13, 2004, GenWest LLC (GenWest) tendered for filing pursuant to section 203 of the Federal Power Act, an application for authorization for GenWest to transfer a 25% undivided ownership interest in its Silverhawk Generating Facility to the Southern Nevada Water Authority on or after commercial operation.

Comment Date: March 5, 2004.

2. San Roque Power Corporation

[Docket No. EG04-33-000]

Take notice that on February 12, 2004, San Roque Power Corporation (Applicant), with its principal office at 6766 Ayala Avenue, 1200 Makati City, Republic of the Philippines, filed with the Federal Energy Regulatory Commission an application for determination of exempt wholesale generator status pursuant to part 365 of the Commission's regulations.

Applicant states that it is a Philippine corporation engaged directly and exclusively in the business of owning and operating an approximately 345 MW, hydroelectric facility located on Luzon Island in the Republic of the Philippines. Applicant further states that electric energy produced by the facility will be sold at wholesale and entirely outside the United States.

Comment Date: March 4, 2004.

3. PSEG Huangshi Power Ltd.

[Docket No. EG04-34-000]

Take notice that on February 12, 2004, PSEG Huangshi Power Ltd. (PSEG Huangshi), with its principal office at Clarendon House, 2 Church Street, Hamilton HM11, Bermuda, filed with the Federal Energy Regulatory Commission an application for determination of exempt wholesale generator status pursuant to part 365 of the Commission(s regulations.

PSEG Huangshi states that it is a corporation organized under the laws of Bermuda. PSEG Huangshi states that it will be engaged, directly or indirectly through an affiliate as defined in section 2(a)(11)(B) of the Public Utility Holding Company Act of 1935 (PUHCA), exclusively in owning, operating, or both owning and operating: (1) A 50 percent ownership interest in a coal-fired thermal facility consisting of a steam turbine and generator with a total output of approximately 200 megawatts; and (2) a coal-fired thermal facility consisting of two steam turbines and generators with a total output of approximately 600 megawatts. PSEG Huangshi states that it will through an affiliate sell electric energy at wholesale from the facility and may engage in other incidental activities with respect thereto consistent with PUHCA.

Comment Date: March 5, 2004.

4. Maine Public Service Company

[Docket No. ER00-1053-010]

Take notice that on February 11, 2004, Maine Public Service Company (MPS) submitted revisions to its Open Access Transmission Tariff (OATT) to implement an Agreement regarding Maine Public Service Company's Formula Rate and 2003 Informational Filing (Settlement Agreement).

MPS states that copies of this filing were served on the parties to the proceeding, parties to the Settlement Agreement in Docket No. ER00-1053-000, the Commission Trial Staff, the Maine Public Utilities Commission, the Maine Public Advocate, and current MPS open access transmission tariff customers.

Comment Date: March 3, 2004.

5. ISO New England Inc.

[Docket No. ER01-316-011]

Take notice that on February 12, 2004, ISO New England Inc. (the ISO) tendered for filing a revised quarterly Index of Customers for the fourth quarter of 2003 for its Tariff for Transmission Dispatch and Power Administration Services filed on February 3, 2004, in Docket No. ER01-316-010. The ISO states that the revision is made to conform to FERC rule 614.

Comment Date: March 4, 2004.

6. NorthWestern Energy Marketing, LLC

[Docket No. ER02-41-005]

Take notice that on February 12, 2004, NorthWestern Energy Marketing, LLC (NEM) tendered for filing an amended Original Sheet No. 1 to its market-based rate tariff, FERC Electric Tariff, First Revised Volume No. 1, to identify the Commission-approved geographic markets into which NEM may sell ancillary services.

Comment Date: March 4, 2004.

7. NorthWestern Energy

[Docket No. ER03-329-004]

Take notice that on February 12, 2004, NorthWestern Energy (NWE) tendered for filing an amended Original Sheet No. 1 to its market-based rate tariff, FERC Electric Tariff, Second Revised Volume No. 6, to identify the Commission-approved geographic markets into which NWE may sell ancillary services.

Comment Date: March 4, 2004.

8. American Electric Power Service

[Docket No. ER04-276-001]

Take notice that on February 12, 2004, American Electric Power Service (AEP) tendered for filing Amendments to an Amended Interconnection and Operation Agreement between Ohio Power Company and Lima Energy Company (LEC). AEP requests an effective date of February 9, 2004.

AEP states that a copy of the filing was served upon LEC and the Public Commission of Ohio.

Comment Date: March 4, 2004.

9. Bravo Energy Resources, LLC

[Docket No. ER04-292-001]

Take notice that on February 12, 2004, Bravo Energy Resources, LLC (Bravo) submitted an amendment to its petition filed December 15, 2003, for acceptance of Bravo Rate Schedule FERC Electric Tariff Original Volume No. 1; the granting of certain blanket approvals, including the authority to sell electricity at market-based rates; and the waiver of certain Commission regulations.

Bravo states that it intends to engage in wholesale electric power and energy purchases and sales as a marketer and that it is not in the business of generating or transmitting electric power.

Comment Date: March 4, 2004.

10. The Clark Fork and Blackfoot, L.L.C.

[Docket Nos. ER04-467-001]

Take notice that on February 12, 2004, The Clark Fork and Blackfoot, L.L.C. (TCFB) tendered for filing an amended Original Sheet No. 1 to its market-based rate tariff, FERC Electric Tariff, First Revised Volume No. 1, to identify the Commission-approved geographic markets into which TCFB may sell ancillary services.

Comment Date: March 4, 2004.

11. Southern California Edison Company

[Docket No. ER04-550-000]

Take notice, that on February 12, 2004, Southern California Edison Company (SCE) tendered for filing a revised rate sheet (Revised Sheet) for the Service Agreement for Wholesale Distribution Service between SCE and the City of Rancho Cucamonga, California (Rancho Cucamonga). SCE states that the Revised Sheet reflects a revised date for the commencement of wholesale Distribution Service.

SCE states that copies of this filing were served upon the Public Utilities Commission of the State of California, and Rancho Cucamonga.

Comment Date: March 4, 2004.

12. Western Systems Power Pool, Inc.

[Docket No. ER04-551-000]

Take notice that on February 12, 2004, Western Systems Power Pool, Incorporated (WSPP) tendered for filing a request to amend the WSPP Agreement to include ATCO Power Canada Ltd. (ATCO) and Las Vegas Cogeneration II, LLC (LVC II) as participants. The WSPP seeks an effective date of December 22, 2003, for LVC II membership and January 12, 2004, for ACTO's membership.

WSPP states that copies of this filing will be served upon ATCO and Black Hills Generation, Inc., the parent company of LVCC II. In addition, WSPP states that copies will be emailed to WSPP members who have supplied email addresses for the Contract Committee and Contacts lists. WSPP further states that this filing also has been posted on the WSPP home page (www.wspp.org) thereby providing notice to all WSPP members.

Comment Date: March 4, 2004.

13. Illinois Power Company

[Docket No. ER04-552-000]

Take notice that on February 12, 2004, Illinois Power Company (Illinois Power) tendered for filing First Revised Sheet No. 10 and Original Sheet No. 180 through Original Sheet No. 346, to include the pro forma Large Generator Interconnection Procedures and the Large Generator Interconnection Agreement in its Open Access Transmission Tariff. Illinois Power requests an effective date of January 20, 2004, for the tariff sheets.

Comment Date: March 4, 2004.

14. Avista Corporation

[Docket Nos. ER04-553-000]

Take notice that on February 12, 2004, Avista Corporation (Avista) tendered for filing with the Federal Regulatory Commission a Notice of Cancellation of Avista's Rate Schedule No. 194 with PacifiCorp.

Comment Date: March 4, 2004.

15. Diverse Power Incorporated

[Docket No. ER04-555-000]

Take notice that on February 12, 2004, Diverse Power Incorporated (Diverse) submitted its proposed Revised Tariff Sheet No. 1 of its Original FERC Rate Schedule No. 1. The revised tariff sheet is being filed to reflect a change in name from Troup Electric Membership Corp. to Diverse Power Incorporated.

Comment Date: March 4, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-358 Filed 2-23-04; 8:45 am]

BILLING CODE 6717-01-P